DEPARTMENT OF STATE

[Public Notice: 11894]

Notice of Department of State Sanctions Actions

SUMMARY: The Secretary of State has imposed sanctions on seven individuals and six entities.

DATES: The Secretary of State's determination regarding the seven individuals, six entities, and imposition of sanctions on the individuals, entities, and vessel identified in the SUPPLEMENTARY INFORMATION section were effective on August 2, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (ii) to be responsible for or complicit in, or to have directly or indirectly engaged or attempted to engage in, any of the following for or on behalf of, or for the benefit of, directly or indirectly, the Government of the Russian Federation: (F) activities that undermine the peace, security, political stability, or territorial integrity of the United States, its allies, or its partners.

Pursuant to section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) to operate or have operated in the technology sector or the defense and related materiel sector of the Russian Federation economy, or any other sector of the Russian Federation economy as may be determined by the Secretary of the Treasury, in consultation with the Secretary of State. The Secretary of the Treasury, in consultation with the Secretary of State determined that section 1(a)(i) of E.O. 14024 shall apply to the financial services and aerospace sectors of the Russian Federation economy.

Pursuant to section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (vii) to be owned or controlled by, or to have acted or purported to act for or on behalf of, directly or indirectly, the Government of the Russian Federation or any person whose property and interests in property are blocked pursuant to this order.

The Secretary of State has determined, pursuant to section 1(a)(ii)(F) of E.O. 14024, Kostyantyn Volodymyrovych Ivashchenko, Sergey Vladimirovich Yeliseyev, Volodymyr Vasilyovich Saldo, Kyrylo Serhiyovych Stremousov, and Salvation Committee For Peace And Order are responsible for or complicit in, or has directly or indirectly engaged or attempted to engage in, activities that undermine the peace, security, political stability, or territorial integrity of the United States, its allies, or its partners for or on behalf of, or for the benefit of, directly or indirectly, the Government of the Russian Federation.

The Secretary of State has determined, pursuant to section 1(a)(i) of E.O. 14024, that Dmitriy Aleksandrovich Pumpyanskiy, Andrey Igorevich Melnichenko, and Alexander Anatolevich Ponomarenko operate or have operated in the financial services sector or the aerospace sector of the Russian Federation economy.

The Secretary of State has determined, pursuant to section 1(a)(vii) of E.O. 14024, that Joint Stock Company State Transportation Leasing Company, GTLK Asia Limited, GTLK Europe Capital Designated Activity Company, GTLK Europe Designated Activity Company, and GTLK Middle East Free Zone Company are owned or controlled by, or has acted or purported to act for or on behalf of, directly or indirectly, the Government of the Russian Federation or any person whose property and interests in property are blocked pursuant to E.O. 14024.

Pursuant to E.O. 14024 this entity has been added to the Specially Designated Nationals and Blocked Persons List. All property and interests in property of this entity subject to U.S. jurisdiction are blocked.

The following vessel subject to U.S. jurisdiction is blocked: AXIOMA (Linked To: Dmitriy Aleksandrovich Pumpyanskiy).

Whitney Baird,
Principal Deputy Assistant Secretary, Bureau of Economic and Business Affairs, Department of State.

[FR Doc. 2022-26321 Filed 12-2-22; 8:45 am]

BILLING CODE 4710-AE-P